DEPARTMENT OF EDUCATION

Applications for New Awards; Native Hawaiian Career and Technical Education Program (NHCTEP)

AGENCY: Office of Career, Technical, and Adult Education, Department of Education.

ACTION: Notice.

SUMMARY: The Department of Education (Department) is issuing a notice inviting applications for new awards for fiscal year (FY) 2018 for the Native Hawaiian Career and Technical Education Program (NHCTEP), Catalog of Federal Domestic Assistance (CFDA) number 84.259A.

DATES:

Applications Available: June 27, 2018.

Deadline for Notice of Intent to Apply: July 9, 2018. We will be able to develop a more efficient process for reviewing grant applications if we can anticipate the number of applicants that intend to apply for funding under this competition. Therefore, we strongly encourage each potential applicant to notify us of the applicant's intent to submit an application for funding by sending a short email message. This short email should provide the applicant organization's name and address. Please send this email notification to NHCTEPgrant@ed.gov with “Intent to Apply” in the email subject line. Applicants that do not provide this email notification may still apply for funding.

Deadline for Transmittal of Applications: July 27, 2018.

Pre-Application Teleconference Information: The Department will hold a pre-application meeting via teleconference for prospective applicants on July 9, 2018 at 2:00 p.m. Eastern Time. The teleconference is intended to provide technical assistance to all interested grant applicants. Information regarding the teleconference can be found on the Perkins Collaborative Resource Network at http://cte.ed.gov/.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Linda Mayo, U.S. Department of Education, 400 Maryland Avenue SW, Potomac Center Plaza, Room 11075, Washington, DC 20202-7241. Telephone: (202) 245-7792. Email: linda.mayo@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Native Hawaiian Career and Technical Education Program (NHCTEP) provides grants to eligible community-based organizations to plan, conduct, and administer programs, or portions of programs, that are for the benefit of Native Hawaiians and authorized by and consistent with the purposes of section 116 of the Carl D. Perkins Career and Technical Education Act of 2006 (Act). Section 116(e) of the Act provides that programs, services, and activities funded under NHCTEP must support and improve career and technical education programs. (20 U.S.C. 2326(e))

Background: Under section 116(h) of the Act, eligible community-based organizations receive NHCTEP grants to plan, conduct, and administer programs, or portions thereof that are consistent with the purposes of section 116 of the Act, for the benefit of Native Hawaiians. Section 116(e) of the Act provides that educational programs, services, and activities funded under NHCTEP must support and help to improve career and technical education programs. (20 U.S.C. 2326(e)). This requirement, along with the statutory definition of “career and technical education,” aligns NHCTEP with other programs authorized under the Act that offer a sequence of courses that provides individuals with coherent and rigorous content.

Under section 3(5)(A) of the Act (20 U.S.C. 2302(5)(A)), the Department awards grants under this competition to carry out career and technical education projects that provide organized educational activities offering a sequence of courses that—

(a) Provides individuals with coherent and rigorous content aligned with challenging academic standards and relevant technical knowledge and skills needed to prepare for further education and careers in current or emerging professions;

(b) Provides technical skill proficiency, an industry-recognized credential, a certificate, or an associate degree; and

(c) Includes competency-based applied learning that contributes to the academic knowledge, higher-order reasoning and problem-solving skills, work attitudes, general employability skills, technical skills, and occupation-specific skills, and knowledge of all aspects of an industry, including entrepreneurship, of an individual. Projects may include prerequisite courses (other than remedial courses) that meet the definition of “career and technical education,” in section 3(5)(A) of the Act. (20 U.S.C. 2302(5)(A)). In addition, at the secondary level, coherent and rigorous academic curriculum in reading or language arts and in mathematics must be aligned with challenging academic content standards and student academic achievement standards that the State in which the applicant is located has established under the Elementary and Secondary Education Act of 1965 (ESEA).

Note: Contacts for State ESEA programs may be found on the internet at: www.ed.gov/about/contacts/state/index.html.

Priority: This notice contains one invitational priority. The invitational priority is from the Secretary's Final Supplemental Priorities and Definitions for Discretionary Grant Programs, published on March 2, 2018 (83 FR 9096) (Secretary's Supplemental Priorities).

Invitational Priority: For FY 2018 and any subsequent year in which we make awards from the list of unfunded applications from this competition, this priority is an invitational priority. Under 34 CFR 75.105(c)(1) we do not give an application that meets this invitational priority a competitive or absolute preference over other applications.

This priority is:

Creating or expanding opportunities for students to obtain recognized postsecondary credentials in science, technology, engineering, mathematics, or computer science.

For the purposes of this invitational priority, computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects. (See definition of “computer science” in the Secretary's Supplemental Priorities)

Requirements: Requirements 1-6 are from the notice of final requirements, definitions, and selection criteria for this program (notice of final requirements), published in the Federal Register on March 24, 2009 (74 FR 12341). Requirement 7 is from section 315 of the Act.

Requirement 1—Authorized Programs:

(a) In accordance with section 116(e) of the Act, under this program, NHCTEP projects must—

(1) Develop new programs, services, or activities or improve or expand existing programs, services, or activities that are consistent with the purposes of the Act. In other words, the Department will support “expansions” or “improvements” that include, but are not necessarily limited to, the expansion of effective programs or practices; upgrading of activities, equipment, or materials; increasing staff capacity; adoption of new technology; modification of curriculum; or implementation of new policies to improve program effectiveness and outcomes; and

(2) Fund a CTE program, service, or activity that—

(i) Is a new program, service, or activity that was not provided by the applicant during the instructional term (a defined period, such as a semester, trimester, or quarter, within the academic year) that preceded the request for funding under NHCTEP;

(ii) Will improve or expand an existing CTE program; or

(iii) Inherently improves CTE. A program, service, or activity “inherently improves CTE” if it—

(A) Develops new CTE programs of study for approval by the appropriate accreditation agency;

(B) Strengthens the rigor of the academic and career and technical components of funded programs;

(C) Uses curriculum that is aligned with industry-recognized standards and will result in students attaining industry-recognized credentials, certificates, or degrees;

(D) Integrates academics (other than remedial courses) with CTE programs through a coherent sequence of courses to help ensure learning in the core academic and career and technical subjects;

(E) Links CTE at the secondary level with CTE at the postsecondary level and facilitates students' pursuit of a baccalaureate degree;

(F) Expands the scope, depth, and relevance of curriculum, especially content that provides students with a comprehensive understanding of all aspects of an industry and a variety of hands-on, job-specific experiences; or

(G) Offers—

(1) Work-related experience, internships, cooperative education, school-based enterprises, studies in entrepreneurship, community service learning, and job shadowing that are related to CTE programs;

(2) Coaching/mentoring, support services, and extra help for students after school, on the weekends, or during the summer, so they can meet higher standards;

(3) Career guidance and academic counseling for students participating in CTE programs under NHCTEP;

(4) Placement services for students who have successfully completed CTE programs and attained a technical skill proficiency that is aligned with industry-recognized standards;

(5) Professional development programs for teachers, counselors, and administrators;

(6) Strong partnerships among grantees and local educational agencies, postsecondary institutions, community leaders, adult education providers, and, as appropriate, other entities, such as employers, labor organizations, parents, and local partnerships, to enable students to achieve State academic standards and attain career and technical skills;

(7) The use of student assessment and evaluation data to improve continually instruction and staff development; or

(8) Research, development, demonstration, dissemination, evaluation and assessment, capacity-building, and technical assistance, related to CTE programs.

Requirement 2—Evaluation:

To help ensure the high quality of NHCTEP projects and the achievement of the goals and purposes of section 116(h) of the Act, each grantee must budget for and conduct an ongoing evaluation of the effectiveness of its project. An independent evaluator must conduct the evaluation. The evaluation must—

(a) Be appropriate for the project and be both formative and summative in nature; and

(b) Include—

(1) Collection and reporting of the performance measures for NHCTEP that are identified in the Performance Measures section of this notice; and

(2) Qualitative and quantitative data with respect to—

(i) Academic and career and technical competencies demonstrated by the participants and the number and kinds of academic and work credentials acquired by individuals, including their participation in programs providing skill proficiency assessments, industry certifications, or training at the associate degree level that is articulated with an advanced degree option;

(ii) Enrollment, completion, and placement of participants by gender, for each occupation for which training was provided;

(iii) Job or work skill attainment or enhancement, including participation in apprenticeship and work-based learning programs, and student progress in achieving technical skill proficiencies necessary to obtain employment in the field for which the student has been prepared, including attainment or enhancement of technical skills in the industry the student is preparing to enter;

(iv) Activities, during the formative stages of the project, to help guide and improve the project, as well as a summative evaluation that includes recommendations for disseminating information on project activities and results;

(v) The number and percentage of students who obtained industry-recognized credentials, certificates, or degrees;

(vi) The outcomes of students' technical assessments, by type and scores, if available;

(vii) The rates of attainment of a proficiency credential or certificate, in conjunction with a secondary school diploma;

(viii) The effectiveness of the project, including a comparison between the intended and observed results and a demonstration of a clear link between the observed results and the specific treatment given to project participants;

(ix) The extent to which information about or resulting from the project was disseminated at other sites, such as through the grantee's development and use of guides or manuals that provide step-by-step directions for practitioners to follow when initiating similar efforts; and

(x) The impact of the project, e.g., follow-up data on students' employment, sustained employment, promotions, further and continuing education or training, or the impact the project had on Native Hawaiian economic development or career and technical education activities.

Requirement 3—Student Stipends:

A portion of an award under this program may be used to provide stipends (as defined in the Definitions section of this notice) to help students meet the costs of participation in a NHCTEP project.

(1) To be eligible for a stipend a student must—

(i) Be enrolled in a CTE project funded under this program;

(ii) Be in regular attendance in a NHCTEP project and meet the training institution's attendance requirement;

(iii) Maintain satisfactory progress in his or her program of study according to the training institution's published standards for satisfactory progress; and

(iv) Have an acute economic need that—

(A) Prevents participation in a project funded under this program without a stipend; and

(B) Cannot be met through a work-study program.

(2) The amount of a stipend is the greater of either the minimum hourly wage prescribed by State or local law or the minimum hourly wage established under the Fair Labor Standards Act.

(3) A grantee may award a stipend only if the stipend combined with other resources the student receives does not exceed the student's financial need. A student's financial need is the difference between the student's cost of attendance and the financial aid or other resources available to defray the student's cost of attending a NHCTEP project.

(4) To calculate the amount of a student's stipend, a grantee must multiply the number of hours a student actually attends CTE instruction by the amount of the minimum hourly wage that is prescribed by State or local law, or by the minimum hourly wage that is established under the Fair Labor Standards Act. The grantee must reduce the amount of a stipend if necessary to ensure that it does not exceed the student's financial need.

Example: If a grantee uses the Fair Labor Standards Act minimum hourly wage of $7.25 and a student attends classes for 20 hours a week, the student's stipend would be $145 for the week during which the student attends classes ($7.25 × 20 = $145.00). If the program lasts 16 weeks and the student's total financial need is $2,000, the grantee must reduce the weekly stipend to $125, because the total stipend for the course would otherwise exceed the student's financial need by $320 (or $20 a week).

Note: Grantees must maintain records that fully support their decisions to award stipends to students, as well as the amounts that are paid, such as proof of a student's enrollment in a NHCTEP project, stipend applications, timesheets showing the number of hours of student attendance that are confirmed in writing by an instructor, student financial status information, and evidence that a student could not participate in the NHCTEP project without a stipend. (See generally 20 U.S.C. 1232f; 34 CFR 75.700-75.702; 75.730; and 75.731.)

(5) An eligible student may receive a stipend when taking a course for the first time. However, generally a stipend may not be provided to a student who has already taken, completed, and had the opportunity to benefit from a course and is merely repeating the course.

(6) An applicant must include in its application the procedure it intends to use to determine student eligibility for stipends and stipend amounts, and its oversight procedures for the awarding and payment of stipends.

Requirement 4—Direct Assistance to Students:

A grantee may provide direct assistance (as defined elsewhere in this notice under the heading Definitions) to a student only if the following conditions are met:

(1) The recipient of the direct assistance is an individual who is a member of a special population (as defined in section 3(29) of the Act) and who is participating in a NHCTEP project.

(2) The direct assistance is needed to address barriers to the individual's successful participation in a NHCTEP project.

(3) The direct assistance is part of a broader, more generally focused program or activity for addressing the needs of an individual who is a member of a special population.

Note: Direct assistance to individuals who are members of special populations is not, by itself, a “program or activity for special populations.”

(4) The grant funds used for direct assistance must be expended to supplement, and not supplant, assistance that is otherwise available from non-Federal sources. For example, generally, a community-based organization could not use NHCTEP funds to provide child care for single parents if non-Federal funds previously were made available for this purpose, or if non-Federal funds are used to provide child care services for single parents participating in non-career and technical education programs and these services otherwise (in the absence of NHCTEP funds) would have been available to CTE students.

(5) In determining how much of the NHCTEP grant funds it will use for direct assistance to an eligible student, a grantee—

(i) May only provide assistance to the extent that it is needed to address barriers to the individual's successful participation in CTE; and

(ii) Considers whether the specific services to be provided are a reasonable and necessary cost of providing career and technical education programs for special populations. However, the Secretary does not envision a circumstance in which it would be a reasonable and necessary expenditure of NHCTEP project funds for a grantee to utilize a majority of a project's budget to pay direct assistance to students, in lieu of providing the students served by the project with CTE.

Requirement 5—Career and Technical Education Agreement:

Any applicant that is not proposing to provide CTE directly to Native Hawaiian students and proposes instead to pay one or more qualified educational entities to provide such CTE to Native Hawaiian students must include with its application a written CTE agreement between the applicant and the educational entity. The written agreement must describe the commitment between the applicant and the educational entity and must include, at a minimum, a statement of the responsibilities of the applicant and the entity. The agreement must be signed by the appropriate individuals on behalf of each party, such as the authorizing official or administrative head of the applicant Native Hawaiian community-based organization.

Requirement 6: Supplement-Not-Supplant:

Grantees may not use funds under NHCTEP to replace otherwise available non-Federal funding for “direct assistance to students” (as defined elsewhere in this notice under the heading Definitions) and family assistance programs. For example, NHCTEP funds must not be used to supplant non-Federal funds to pay the costs of students' tuition, dependent care, transportation, books, supplies, and other costs associated with participation in a CTE program.

Further, funds under NHCTEP may not be used to replace Federal student financial aid. The Act does not authorize the Secretary to fund projects that serve primarily as entities through which students may apply for and receive tuition and other financial assistance.

Requirement 7—Additional Statutory Requirement Limiting Services:

Section 315 of the Act prohibits the use of funds received under the Act to provide vocational and technical education programs to students prior to the seventh grade, except that equipment and facilities purchased with funds under the Act may be used by such students. (20 U.S.C. 2395)

Definitions: These definitions are from the Act and the notice of final requirements. The source of each definition is noted after the definition.

Acute economic need means an income that is at or below the national poverty level according to the latest available data from the U.S. Department of Commerce or the U.S. Department of Health and Human Services Poverty Guidelines. (Notice of Final Requirements)

Career and technical education (CTE) means organized educational activities that—

(a) Offer a sequence of courses that—

(1) Provides individuals with coherent and rigorous content aligned with challenging academic standards and relevant technical knowledge and skills needed to prepare for further education and careers in current or emerging professions;

(2) Provides technical skill proficiency, an industry-recognized credential, a certificate, or an associate degree; and

(3) May include prerequisite courses (other than a remedial course) that meet the requirements of this definition; and

(b) Include competency-based applied learning that contributes to the academic knowledge, higher-order reasoning and problem-solving skills, work attitudes, general employability skills, technical skills, and occupation-specific skills, and knowledge of all aspects of an industry, including entrepreneurship, of an individual. (20 U.S.C. 2302(5))

Coherent sequence of courses means a series of courses in which career and academic education is integrated, and that directly relates to, and leads to, both academic and occupational competencies. The term includes competency-based education and academic education, and adult training or retraining, including sequential units encompassed within a single adult retraining course, that otherwise meets the requirements of this definition. (Notice of Final Requirements)

Direct assistance to students means tuition, dependent care, transportation, books, and supplies that are necessary for a student to participate in a project funded under this program. (Notice of Final Requirements)

Individual with a disability means an individual with any disability (as defined in section 12102 of title 42) (20 U.S.C. 2302(17)

Individual with limited English proficiency means a secondary school student, an adult, or an out-of-school youth, who has limited ability in speaking, reading, writing, or understanding the English language, and—

(a) Whose native language is a language other than English; or

(b) Who lives in a family or community environment in which a language other than English is the dominant language. (20 U.S.C. 2302(16))

Native Hawaiian means any individual any of whose ancestors were natives, prior to 1778, of the area which now comprises the State of Hawaii. (20 U.S.C. 2326(a)(4))

Special populations means—

(a) Individuals with disabilities;

(b) Individuals from economically disadvantaged families, including foster children;

(c) Individuals preparing for nontraditional fields;

(d) Single parents, including single pregnant women;

(e) Displaced homemakers; and

(f) Individuals with limited English proficiency. (20 U.S.C. 2302(29))

Stipend means a subsistence allowance—

(a) For a student who is enrolled in a CTE program funded under the NHCTEP;

(b) For a student who has an acute economic need that cannot be met through work-study programs; and

(c) That is necessary for the student to participate in a project funded under this program. (Notice of Final Requirements)

Support services means services related to curriculum modification, equipment modification, classroom modification, supportive personnel, and instructional aids and devices. (20 U.S.C. 2302(31))

Program Authority: 20 U.S.C. 2301, et seq., particularly 2326(a)-(g).

Applicable Regulations: (a) The Education Department General Administrative Regulations in 34 CFR parts 75, 77, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The notice of final requirements published in the Federal Register on March 24, 2009 (74 FR 12341). (e) The Secretary's Supplemental Priorities published on March 2, 2018 (83 FR 9096).

II. Award Information

Type of Award: Discretionary grants.

Estimated Available Funds: $2,753,000, for the first 12 months of the project period. Funding for years two and three is subject to the availability of funds and to a grantee meeting the requirements of 34 CFR 75.253.

Contingent upon the availability of funds and the quality of applications, we may make additional awards in FY 2019 or in subsequent years from the list of unfunded applications from this competition.

Estimated Range of Awards: $250,000 to $500,000.

Estimated Average Size of Awards: $276,000.

Maximum Award: We will not make an award exceeding $500,000 for a single budget period of 12 months.

Estimated Number of Awards: 10.

Note: The Department is not bound by any estimates in this notice.

Project Period: Up to 36 months. The Secretary may extend the performance periods of funded NHCTEP grantees for an additional two years, should Congress continue to appropriate funds under the Act.

III. Eligibility Information

1. Eligible Applicants: The following entities are eligible to apply under this competition:

(a) Community-based organizations primarily serving and representing Native Hawaiians. For purposes of the NHCTEP, a community-based organization means a public or private organization that provides career and technical education, or related services, to individuals in the Native Hawaiian community.

(b) Any community-based organization may apply individually or as part of a consortium with one or more eligible community-based organizations. (Eligible applicants seeking to apply for funds as a consortium must meet the requirements in 34 CFR 75.127-75.129.)

2. (a) Cost Sharing or Matching: This program does not require cost sharing or matching.

(b) Supplement-Not-Supplant: This program involves supplement-not-supplant funding requirements. In accordance with section 311(a) of the Act, funds under this program may not be used to supplant non-Federal funds used to carry out CTE activities. Further, the prohibition against supplanting also means that grantees are required to use their negotiated restricted indirect cost rates under this program. (34 CFR 75.563)

We caution applicants not to plan to use funds under NHCTEP to replace otherwise available non-Federal funding for direct assistance to students and family assistance programs. For example, NHCTEP funds must not be used to supplant non-Federal funds with Federal funds in order to pay the costs of students' tuition, dependent care, transportation, books, supplies, and other costs associated with participation in a CTE program.

Funds under NHCTEP should not be used to replace Federal student financial aid. The Act does not authorize the Secretary to fund projects that serve primarily as entities through which students may apply for and receive tuition and other financial assistance.

(c) Limitation on Services: Section 315 of the Act prohibits the use of funds received under the Act to provide CTE programs to students prior to the seventh grade.

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: This program is not subject to Executive Order 12372 and the regulations in 34 CFR part 79.

3. Funding Restrictions: We reference regulations outlining funding restrictions in the Applicable Regulations section of this notice.

4. Notice of Intent to Apply: The Department will be able to review grant applications more efficiently if we know the approximate number of applicants that intend to apply. Therefore, we strongly encourage each potential applicant to notify us of their intent to submit an application. To do so, please email NHCTEPgrant@ed.gov with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this program are from the notice of final requirements, and are as follows.

The maximum possible score for addressing each criterion is indicated in parentheses.

(a) Quality of the Project Design (35 points). In determining the quality of the design of the proposed project, we consider the following factors:

(1) The extent to which the design of the proposed project is appropriate to and will successfully address the needs of the target population or other identified needs (as evidenced by such data as local labor market demand, occupational trends, and surveys). (Up to 5 points)

(2) The extent to which goals, objectives, and outcomes are clearly specified and measurable. (For example, we look for clear descriptions of proposed student career and technical education activities; recruitment and retention strategies; expected student enrollments, completions, and placements in jobs, military specialties, and continuing education/training opportunities; the number of teachers, counselors, and administrators to be trained; and identification of requirements for each program of study to be provided under the project, including related training areas and a description of performance outcomes.) (Up to 10 points)

(3) The extent to which the proposed project will establish linkages with other appropriate agencies (e.g., community, State, and other Federal resources) and organizations providing services to the target population in order to improve services to students and strengthen outcomes for the proposed project. (Up to 5 points)

(4) The extent to which the services to be provided by the proposed project will create and offer activities that focus on enabling participants to obtain the skills necessary to gain employment in high-skill, high-wage, and high-demand occupations in emerging fields or in a specific career field. (Up to 5 points)

(5) The extent to which the services to be provided by the proposed project will create opportunities for students to acquire skills identified by the State at the secondary level or by industry-recognized career and technical education programs for licensure, degree, certification, or as required by a career or profession. (Up to 5 points)

(6) The extent to which the proposed project will provide opportunities for high-quality training or professional development services that—

(i) Are of sufficient quality, intensity, and duration to lead to improvements in practice among instructional personnel;

(ii) Will improve and increase instructional personnel's knowledge and skills to help students meet challenging and rigorous academic and career and technical skill proficiencies;

(iii) Will advance instructional personnel's understanding of effective instructional strategies that are supported by scientifically based research; and

(iv) Include professional development plans that clearly address ways in which learning gaps will be addressed and how continuous review of performance will be conducted to identify training needs. (Up to 5 points)

(b) Quality of the Management Plan (15 points). In determining the quality of the management plan for the proposed project, we consider the following factors:

(1) The adequacy of the management plan to achieve the objectives of the proposed project on time and within budget, including clearly defined responsibilities, timelines, and the milestones and performance standards for accomplishing project tasks. (Up to 5 points)

(2) The extent to which the time commitments of the project director and other key project personnel, including instructors, are appropriate and adequate to meet the objectives of the proposed project. (Up to 5 points)

(3) The adequacy of procedures for ensuring feedback and continuous improvement in the operation of the proposed project. (Up to 5 points)

(c) Quality of Project Personnel (25 points). In determining the quality of project personnel, we consider the following factors:

(1) The extent to which the applicant encourages applications for employment from persons who are members of groups that have traditionally been underrepresented based on race, color, national origin, gender, age, or disability. (Up to 5 points)

(2) The qualifications, including relevant training, expertise, and experience, of the project director. (Up to 10 points)

(3) The qualifications, including relevant training, expertise, and experience, of key project personnel, especially the extent to which the project will use instructors who are certified to teach in the field in which they will provide instruction. (Up to 5 points)

(4) The qualifications, including training, expertise, and experience, of project consultants. (Up to 5 points)

(d) Adequacy of Resources (20 points). In determining the adequacy of resources for the proposed project, we consider the following factors:

(1) The adequacy of support, including facilities, equipment, supplies, and other resources, from the applicant organization(s) and the entities to be served, including the evidence and relevance of commitments (e.g., articulation agreements, memoranda of understanding, letters of support, or commitments to employ project participants) of the applicant, local employers, or entities to be served by the project. (Up to 10 points)

(2) The extent to which the budget is adequate and costs are reasonable in relation to the objectives and design of the proposed project. (Up to 5 points)

(3) The potential for continued support of the project after Federal funding ends. (Up to 5 points)

(e) Quality of the Project Evaluation (25 points). In determining the quality of the evaluation, we consider the following factors:

(1) The extent to which the methods of evaluation proposed by the grantee are thorough, feasible, and appropriate to the goals, objectives, and outcomes of the proposed project.¹ (Up to 10 points)

¹ This may include the Government Performance and Results Act of 1993 (GPRA) performance measures.

(2) The extent to which the methods of evaluation include the use of objective performance measures that are clearly related to the intended outcomes of the project and the performance measures discussed elsewhere in this notice and will produce quantitative and qualitative data, to the extent possible. (Up to 5 points)

(3) The extent to which the methods of evaluation will provide performance feedback and continuous improvement toward achieving intended outcomes. (Up to 5 points)

(4) The quality of the proposed evaluation to be conducted by an external evaluator with the necessary background and technical expertise to carry out the evaluation. (Up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition, the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993 (GPRA), Federal departments and agencies must clearly describe the goals and objectives of their programs, identify resources and actions needed to accomplish these goals and objectives, develop a means of measuring progress made, and regularly report on their achievement. One important source of program information on successes and lessons learned is the project evaluation conducted under individual grants. The Department has established the following core factors and measures for evaluating the overall effectiveness of the NHCTEP and projects supported under this program. Consequently, we advise an applicant for a grant under this program to give careful consideration to these core factors and measures.

(a) Number of Secondary, Postsecondary, and Adult Projects. The number of secondary, postsecondary, and adult projects that—

(1) Apply industry-recognized skill standards so that students can earn skill certificates in those projects; and

(2) Offer skill competencies, related assessments, and industry-recognized skill certificates in an area of study offered by secondary and postsecondary institutions.

(b) Secondary Projects. The percentage of participating secondary career and technical education students who—

(1) Meet or exceed State proficiency standards in reading/language arts and mathematics;

(2) Attain a secondary school diploma or its State-recognized equivalent, or a proficiency credential in conjunction with a secondary school diploma;

(3) Attain career and technical education skill proficiencies aligned with industry-recognized standards; and

(4) Are placed in postsecondary education, advanced training, military service, or employment in high-skill, high-wage, and high-demand occupations or in current or emerging occupations.

(c) Postsecondary Projects. The percentage of participating postsecondary students in career and technical education programs who—

(1) Receive postsecondary degrees, certificates, or credentials;

(2) Attain career and technical education skill proficiencies aligned with industry-recognized standards;

(3) Receive industry-recognized credentials, certificates, or degrees;

(4) Are retained in postsecondary education or transfer to a baccalaureate degree program; and

(5) Are placed in military service or apprenticeship programs, or are placed in employment, receive an employment promotion, or retain employment.

Note: All grantees must submit an annual performance report addressing these performance measures, to the extent feasible and to the extent that they apply to each grantee's NHCTEP project.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact persons listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: June 22, 2018.
Michael E. Wooten,
Acting Assistant Secretary for Career, Technical, and Adult Education.

[FR Doc. 2018-13856 Filed 6-26-18; 8:45 am]

BILLING CODE 4000-01-P